DEPARTMENT OF COMMERCE

National Oceanic and Atmospheric Administration

RIN 0648-XE981

Mid-Atlantic Fishery Management Council (MAFMC); Meeting

AGENCY: National Marine Fisheries Service (NMFS), National Oceanic and Atmospheric Administration (NOAA), Commerce.

ACTION: Notice of a public meeting.

SUMMARY: The Mid-Atlantic Fishery Management Council's (MAFMC's) Summer Flounder, Scup, and Black Sea Bass Advisory Panel will hold a public meeting via Webinar, jointly with the Atlantic States Marine Fisheries Commission's (ASMFC's) Summer Flounder, Scup, and Black Sea Bass Advisory Panel.

DATES: The meeting will be held from 10:00 a.m. to 12:00 p.m. on Monday, November 14, 2016, to view the agenda, see SUPPLEMENTARY INFORMATION.

ADDRESSES: The meeting will take place via Webinar with a telephone-only connection option. The Webinar can be accessed, at http://mafmc.adobeconnect.com/scup_quota_ap/. To access via telephone, dial 1-800-832-0736 and use room number 5068871.

Council address: Mid-Atlantic Fishery Management Council, 800 N. State Street, Suite 201, Dover, DE 19901; telephone: (302) 674-2331 or on their Web site, at www.mafmc.org.

FOR FURTHER INFORMATION CONTACT: Christopher M. Moore, Ph.D., Executive Director, Mid-Atlantic Fishery Management Council, telephone: (302) 526-5255.

SUPPLEMENTARY INFORMATION:

Agenda

The Mid-Atlantic Fishery Management Council's Summer Flounder, Scup, and Black Sea Bass Advisory Panel, together with the Atlantic States Marine Fisheries Commission's Advisory Panel, will meet on Monday, November 14, 2016, via Webinar (see DATES and ADDRESSES). The purpose of this meeting is to discuss potential changes to the dates of the three commercial quota periods for the Scup fishery. The three quota periods are each allocated a different percentage of the annual commercial quota and different possession limits are in effect during each period. The Council is considering initiating a framework adjustment, or other management action, to modify the dates of these quota periods, based on past requests from Advisory Panel members. During this meeting, advisors will review a preliminary analysis of the potential impacts of modifying the quota period dates, will review recommendations from the Monitoring Committee, and will have an opportunity to provide the Council with additional input on a potential management action to modify these dates.

A detailed agenda and background documents will be made available on the Council's Web site, at www.mafmc,org, prior to the meeting.

Special Accommodations

These meetings are physically accessible to people with disabilities. Requests for sign language interpretation or other auxiliary aid should be directed to M. Jan Saunders, (302) 526-5251, at least 5 business days prior to the meeting.

Authority: 16 U.S.C. 1801 et seq.

Dated: October 19 2016.
Tracey L. Thompson,
Acting Director, Office of Sustainable Fisheries, National Marine Fisheries Service.

[FR Doc. 2016-25642 Filed 10-21-16; 8:45 am]

BILLING CODE 3510-22-P